DEPARTMENT OF STATE

[Public Notice 5038]

Guidelines for the Exercise of the Law Enforcement Authorities by Special Agents of the Diplomatic Security Service

SUMMARY: In accordance with section 202 (c) of the Foreign Relations Authorization Act, Fiscal Year 2003, which amended section 37 of the State Department Basic Authorities Act (22 U.S.C. 2709), notice is hereby given that pursuant to letters dated March 7, 2005, the State Department advised appropriate congressional committee members that the Secretary of the Department of Homeland Security and the Attorney General approved the Guidelines for the Exercise of Law Enforcement Authorities by Special Agents of the Diplomatic Security Service. This new subsection of 22 U.S.C. 2709 expands authority for special agents of the Department of State and the Foreign Service to obtain and execute subpoenas and arrest warrants and to make arrests without warrant subject to guidelines approved by the Secretary of State, the Secretary of Treasury (and now the Secretary of Homeland Security per the Homeland Security Act of 2002) and the Attorney General. The approved set of guidelines constitutes a statement of policy that will govern such activities by special agents of the Bureau of Diplomatic Security to the United States pursuant to 22 U.S.C. 2709.

FOR FURTHER INFORMATION CONTACT: Jenna M. Litschewski, Attorney Adviser, L/LM/DS, at 571-345-2955 or litschewskij@state.gov.

Dated: March 30, 2005.
Joe D. Morton,
Acting Assistant Secretary for Diplomatic Security Service, Department of State.

[FR Doc. 05-6822 Filed 4-5-05; 8:45 am]

BILLING CODE 4710-43-P